COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities and deletes product(s) previously furnished by such agencies.

DATES: Comments must be received on or before: June 2, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Additions

In accordance with 41 CFR 51-5.3(b), the Committee intends to add this services requirement to the Procurement List as a mandatory purchase only for the DEPT OF THE AIR FORCE, FA4419 97 CONS CC at Altus Air Force Base, OK with the proposed qualified nonprofit agency as the authorized source of supply. Prior to adding the service to the Procurement List, the Committee will consider other pertinent information, including information from Government personnel and relevant comments from interested parties regarding the Committee's intent to geographically limit this services requirement.

The following service(s) are proposed for addition to the Procurement List for production by the nonprofit agencies listed:

Service(s)

Service Type: Contractor Operated Civil Engineer Supply Store

Mandatory for: U.S. Air Force, Altus Air Force Base, Altus AFB, OK

Authorized Source of Supply: South Texas Lighthouse for the Blind, Corpus Christi, TX

Contracting Activity: DEPT OF THE AIR FORCE, FA4419 97 CONS CC

Deletions

The following product(s) are proposed for deletion from the Procurement List:

Product(s)

NSN(s)—Product Name(s):

8415-00-NIB-0810—Glove, Vinyl, Industrial/Non-Medical Grade, Small

8415-00-NIB-0811—Glove, Vinyl, Industrial/Non-Medical Grade, Medium

8415-00-NIB-0812—Glove, Vinyl, Industrial/Non-Medical Grade, Large

8415-00-NIB-0813—Glove, Vinyl, Industrial/Non-Medical Grade, XLarge

Mandatory Source of Supply: BOSMA Enterprises, Indianapolis, IN

Contracting Activity: STRATEGIC ACQUISITION CENTER, FREDERICKSBURG, VA

NSN(s)—Product Name(s):

6508-01-694-1827—Refill, PURELL-SKILCRAFT, Healthcare Advanced Hand Sanitizer, Ultra Nourishing Foam, ES8 System

Mandatory Source of Supply: Travis Association for the Blind, Austin, TX

Contracting Activity: DLA TROOP SUPPORT, PHILADELPHIA, PA

Michael R. Jurkowski,
Director, Business Operations.

[FR Doc. 2024-09702 Filed 5-2-24; 8:45 am]

BILLING CODE 6353-01-P